Title 3—

The President

Proclamation 10500 of November 23, 2022

Thanksgiving Day, 2022

By the President of the United States of America

A Proclamation

This Thanksgiving, as homes across America fill with laughter, favorite family foods, and the joy of friends and relatives reuniting, we give thanks for everything that is good in our lives and reflect on the many blessings of our Nation.

This American spirit of gratitude dates back to our earliest days, when the Pilgrims celebrated a successful first harvest, thanks to the generosity and support of the Wampanoag people. It inspired George Washington to give his troops a day of prayer and thanks amid fierce fighting for American independence. It also moved Abraham Lincoln to proclaim Thanksgiving a national holiday, honoring America's bounty and asking God to bring us together to care for one another and heal our Nation.

Today, Jill and I share that same gratitude for America's promise and for the millions of heroes across our country whose selflessness and care for their communities represent the best of who we are.

We are grateful for our family and friends and for all of our fellow Americans, even those whom we may never meet but rely upon nonetheless. We are thankful for the scientists, researchers, doctors, and nurses who have kept us safe through a pandemic, and for the frontline workers who have kept essential services going by growing and providing food for our tables. We are grateful to faith leaders for their counsel, comfort, and support. We thank our brave service members and veterans who sacrifice so much for our freedom, and the first responders who put so much on the line to keep us all safe.

As Scripture says: “let us rejoice always, pray continually, and give thanks in all circumstances.” This is a special time in the greatest country on Earth, so let us be grateful. America is a great Nation because we are a good people. This holiday, we celebrate all that brings us together, grounded in history and our shared hopes for the future.

NOW, THEREFORE, I, JOSEPH R. BIDEN JR., President of the United States of America, by virtue of the authority vested in me by the Constitution and the laws of the United States, do hereby proclaim Thursday, November 24, 2022, as a National Day of Thanksgiving. I encourage the people of the United States of America to join together and give thanks for the friends, neighbors, family members, and strangers who have supported each other over the past year in a reflection of goodwill and unity.

IN WITNESS WHEREOF, I have hereunto set my hand this twenty-third day of November, in the year of our Lord two thousand twenty-two, and of the Independence of the United States of America the two hundred and forty-seventh.

[FR Doc. 2022-26158

Filed 11-29-22; 8:45 am]

Billing code 3395-F3-P